ENVIRONMENTAL PROTECTION AGENCY

[FRL-7833-4]

Agency Information Collection Activities; OMB Responses

AGENCY: Environmental Protection Agency (EPA).

ACTION: Notice.

SUMMARY: This document announces the Office of Management and Budget's (OMB) responses to Agency Clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or email at auby.susan@epa.gov and please refer to the appropriate EPA Information Collection Request (ICR) Number.

SUPPLEMENTARY INFORMATION:

OMB Responses to Agency Clearance Requests

OMB Approvals

EPA ICR No. 1058.08; NSPS for Incinerators; in 40 CFR part 60, subpart E; was approved 09/29/2004; OMB Number 2060-0040; expires 09/30/2007.

EPA ICR No. 1687.06; NESHAP for Aerospace Manufacturing and Rework Facilities; in 40 CFR part 63, subpart GG; was approved 09/28/2004; OMB Number 2060-0314; expires 09/30/2007.

EPA ICR No. 1287.07; Questionnaire for Nominees for the Annual National Clean Water Act Recognition Awards Program; in 40 CFR part 105; was approved 09/28/2004; OMB Number 2040-0101; expires 09/30/2007.

EPA ICR No. 1959.02; National Listing of Advisories; was approved 09/28/2004; OMB Number 2040-0226; expires 09/30/2007.

EPA ICR No. 0657.08; NSPS for the Graphic Arts Industry; in 40 CFR part 60, subpart QQ; was approved 09/29/2004; OMB Number 2060-0105; expires 09/30/2007.

EPA ICR No. 1427.07; NPDES Compliance Assessment/Certification Information; in 40 CFR 122.41(j)(2), 122.41(l)(5-7); 122.44(i)(4)(ii); 40 CFR 122.45(b)(2)(B)(1); 40 CFR 501.15(a)(6); 40 CFR 501.15(b)(12); 40 CFR part 435; was approved 09/28/2004; OMB Number 2040-0110; expires 09/30/2007.

EPA ICR No. 2087.02; Concentrated Aquatic Animal Production Effluent Guidelines; in 40 CFR part 451; was approved 09/28/2004; OMB Number 2040-0258; expires 09/30/2007.

EPA ICR No. 1904.02; The Sun Wise School Program; was approved 09/29/2004; OMB Number 2060-0439; expires 09/30/2007.

EPA ICR No. 0222.07; Investigation into Possible Noncompliance of Motor Vehicles with Federal Emissions Standards; was approved 09/24/2004; OMB Number 2060-0086; expires 09/30/2007.

EPA ICR No. 1063.09; NSPS for Sewage Sludge Treatment Plants; in 40 CFR part 60, subpart O; was approved 09/24/2004; OMB Number 2060-0035; expires 09/30/2007.

EPA ICR No. 1643.05; Application Requirements for the Approval and Delegation of Federal Air Toxics Programs to State, Territorial, Local, and Tribal Agencies; in 40 CFR part 63, subpart E; was approved 09/24/2004; OMB Number 2060-0264; expires 09/30/2007.

EPA ICR No. 1593.06; Air Emission Standards for Tanks, Surface Impoundments and Containers; in 40 CFR part 264, subpart CC; 40 CFR part 265, subpart CC; was approved 09/24/2004; OMB Number 2060-0318; expires 09/30/2007.

EPA ICR No. 2100.01; Reporting Requirements Under EPA's Climate Leaders Program; was approved 09/30/2004; OMB Number 2060-0532; expires 09/30/2006.

EPA ICR No. 2103.02; Title IV of the Public Health Security and Bioterrorism Preparedness and Response Act of 2002: Drinking Water Security and Safety, was approved 09/30/2004; OMB Number 2040-0253; expires 09/30/2007.

EPA ICR No. 1560.07; National Water Quality Inventory Reports; in 40 CFR part 130, CWA sections 305(b), 303(d), 314(a) and 106(e); was approved 09/30/2004; OMB Number 2040-0071; expires 09/30/2007.

EPA ICR No. 0002.11; National Pretreatment Program; in 40 CFR 403.1-20, 40 CFR 437, 437.41, 40 CFR part 105, 40 CFR 455.41, 40 CFR 123.24, 40 CFR 123.62, 40 CFR 122.42(b)(2); was approved 09/30/2004; OMB Number 2040-0009; expires 09/30/2007.

EPA ICR No. 2153.01; Final Guidelines for the Best Available Retrofit Technology (BART) Determinations Under the Regional Haze Rule; was approved 09/30/2004; OMB Number 2060-0559; expires 03/31/2005.

Short Term Extensions

EPA ICR No. 1725.03; Marine Engine Manufacturer Production Line Testing Reporting and Recordkeeping Requirements; in 40 CFR part 91; on 9/15/2004 OMB extended the expiration date to 12/31/2004.

Comment Filed

EPA ICR No. 1684.07; Compression, Ignition, Non-Road Engines Certification Application (Proposed Rule for In-Use Testing of On-Road Heavy-Duty Diesel Engines and Vehicles); on 09/24/2004 OMB filed a comment.

EPA ICR No. 2137.01; NESHAP for Coal and Oil-Fired Electric Utility Steam Generating Unit (Proposed Rule) on 09/23/2004; in OMB, 40 CFR part 63, subpart UUUUU; OMB filed a comment.

EPA ICR No. 1362.05; NESHAP for Coke Oven Batteries (Proposed Rule for Risk Assessments); in 40 CFR part 63, subpart L; on 9/27/2004 OMB filed comment.

Dated: October 27, 2004.
Joseph A. Sierra,
Acting Director, Collection Strategies Division.

[FR Doc. 04-24528 Filed 11-2-04; 8:45 am]

BILLING CODE 6560-50-P